DEPARTMENT OF AGRICULTURE

Forest Service

DEPARTMENT OF THE INTERIOR

Fish and Wildlife Service

[FWS-R7-SM-2020-N098; FXRS12610700000 FF07J00000 201]

Alaska Subsistence Regional Advisory Council Meetings for 2021

AGENCY: Fish and Wildlife Service, Interior.

ACTION: Notice of meetings.

SUMMARY: The Federal Subsistence Board (Board) announces the public meetings of the 10 Alaska Subsistence Regional Advisory Councils (hereafter, Councils or RACs) for the winter and fall cycles of 2021. The 10 Councils each meet approximately twice a year to provide advice and recommendations to the Federal Subsistence Board about subsistence hunting and fishing issues on Federal public lands in Alaska.

DATES:

Winter 2021 Meetings: The Alaska Subsistence RACs will meet between February 9, 2021, and March 18, 2021, as shown in Table 1. All meetings will commence at 9:00 a.m. A teleconference may substitute for an in-person meeting if public health or safety restrictions are in effect.

Table 1—Winter 2021 Meetings of the Alaska Subsistence RACs
Regional Advisory Council | Dates | Location
Southeast AK—Region 1 | March 16-18 | Juneau.
Southcentral AK—Region 2 | February 24-25 | Cordova.
Kodiak/Aleutians—Region 3 | March 9-10 | Kodiak.
Bristol Bay—Region 4 | February 9-10 | Naknek.
Yukon-Kuskokwim Delta—Region 5 | March 3-4 | Bethel.
Western Interior—Region 6 | February 17-18 | Fairbanks.
Seward Peninsula—Region 7 | March 11-12 | Nome.
Northwest Arctic—Region 8 | February 18-19 | Kotzebue.
Eastern Interior—Region 9 | March 4-5 | Fairbanks.
North Slope—Region 10 | February 22-23 | Utqiagvik.

Fall 2021 Meetings: The Alaska Subsistence RACs will meet between September 27, 2021, and November 4, 2021, as shown in Table 2. All meetings will commence at 9:00 a.m.

Table 2—Fall 2021 Meetings of the Alaska Subsistence RACs
Regional Advisory Council | Dates | Location
Southeast AK—Region 1 | October 19-21 | Craig.
Southcentral AK—Region 2 | October 13-14 | Anchorage.
Kodiak/Aleutians—Region 3 | September 27-28 | Unalaska.
Bristol Bay—Region 4 | October 27-28 | Dillingham.
Yukon-Kuskokwim Delta—Region 5 | October 6-7 | Bethel.
Western Interior—Region 6 | October 13-14 | Anchorage.
Seward Peninsula—Region 7 | October 26-27 | Nome.
Northwest Arctic—Region 8 | November 1-2 | Kotzebue.
Eastern Interior—Region 9 | October 7-8 | Fairbanks.
North Slope—Region 10 | November 3-4 | Utqiagvik.

The meetings are open to the public. For more information see FOR FURTHER INFORMATION CONTACT, below.

ADDRESSES: See DATES above. Specific information about meeting locations and the final agendas can be found on the Federal Subsistence Program website at: https://www.doi.gov/subsistence/regions.

FOR FURTHER INFORMATION CONTACT: Chair, Federal Subsistence Board, c/o U.S. Fish and Wildlife Service, Attention: Sue Detwiler, Assistant Regional Director, Office of Subsistence Management; (907) 786-3888 or subsistence@fws.gov. For questions specific to National Forest System lands, contact Wayne Owen, Director of Wildlife, Fisheries, Ecology, Watershed, & Subsistence, U.S. Department of Agriculture (USDA), Forest Service, Alaska Region; (907) 586-7916 or wayne.owen@usda.gov.

Reasonable Accommodations: The Federal Subsistence Board is committed to providing access to these meetings for all participants. Please direct all requests for sign language interpreting services, closed captioning, or other accommodation needs to Caron McKee, (907) 786-3880, subsistence@fws.gov, or 800-877-8339 (TTY), 7 business days prior to the meeting you would like to attend.

SUPPLEMENTARY INFORMATION: The Federal Subsistence Board announces the 2021 public meeting schedule for the 10 Alaska Subsistence Regional Advisory Councils, in accordance with the Federal Advisory Committee Act (5 U.S.C. Appendix 2). Established in 1993, the Councils are statutory Federal advisory committees that provide advice and recommendations to the Federal Subsistence Board about subsistence hunting and fishing issues on Federal public lands in Alaska, as authorized by section 805 of the Alaska National Interest Lands Conservation Act (ANILCA; 16 U.S.C. 3111-3126).

The Councils are a crucial link between federally qualified subsistence users and the Board. The Board is a multi-agency body with representation from a Chair and two public members appointed by the Secretary of the Interior with concurrence of the Secretary of Agriculture, U.S. Fish and Wildlife Service, National Park Service, Bureau of Land Management, Bureau of Indian Affairs, and the USDA Forest Service.

Each Council meets approximately two times per calendar year, once in the winter and once in the fall, to attend to business and develop proposals and recommendations to the Board.

Meeting Agendas

Winter Meetings

• General Council business: Review and adoption of agenda; election of officers; review and approval of previous meeting minutes; Chair and Council member reports; public and Tribal comments on non-agenda items.

• Develop proposals and accept public comment to change subsistence hunting and trapping regulations.

• Review and approval of Annual Report.

• Agency reports.

• Future meeting dates.

Fall Meetings

• General Council business: Review and adoption of agenda; review and approval of previous meeting minutes; Chair and Council member reports; public and Tribal comments on non-agenda items.

• Prepare recommendations and accept public comments on proposals to change subsistence hunting and trapping regulations.

• Define issues for upcoming Annual Report.

• Agency reports.

• Future meeting dates.

A notice will be published of specific dates, times, and meeting locations in local and statewide newspapers prior to both series of meetings; in addition, announcements will be made on local radio stations and posted on social media and the program website. Locations and dates may change based on weather or local circumstances. The final agendas and other related meeting information will be posted on the Federal Subsistence Program website at https://www.doi.gov/subsistence/regions. Detailed minutes of the meetings are maintained by the Designated Federal Officers and will be available for public inspection within 90 days after each meeting at https://www.doi.gov/subsistence/regions.

Public Disclosure of Comments: Time will be allowed for any individual or organization wishing to make extemporaneous and/or formal oral comments. Any written comments received will be provided to the Council members.

Before including your address, phone number, email address, or other personal identifying information in your comment, you should be aware that your entire comment—including your personal identifying information—may be made publicly available at any time. While you can ask us in your comment to withhold your personal identifying information from public review, we cannot guarantee that we will be able to do so.

Authority: 5 U.S.C. Appendix.

Sue Detwiler,
Assistant Regional Director, U.S. Fish and Wildlife Service.
Dated: 10 December 2020.
Wayne Owen,
Director, Wildlife, Fisheries, Ecology, Watershed, & Subsistence, Alaska Region, USDA—Forest Service.

[FR Doc. 2020-27568 Filed 12-14-20; 8:45 am]

BILLING CODE 4333-15-P; 3411-15-P